DEPARTMENT OF THE TREASURY

Office of Foreign Assets Control

Publication of Ukraine General Licenses 5, 6, 7, 8, and 9

AGENCY: Office of Foreign Assets Control, Treasury.

ACTION: Notice, publication of general licenses.

SUMMARY: The Department of the Treasury's Office of Foreign Assets Control (OFAC) is publishing General License No. 5, General License No. 6, General License No. 7, General License No. 8, and General License No. 9 issued under the Ukraine-related sanctions program. On December 30, 2014, OFAC issued General License No. 5, which authorizes transactions and activities necessary to wind down operations involving the Crimea region of Ukraine, subject to certain limitations. On January 30, 2015, OFAC issued three Ukraine-related general licenses. General License No. 6 authorizes noncommercial, personal remittances to or from the Crimea region of Ukraine or for or on behalf of an individual ordinarily resident in the Crimea region of Ukraine, subject to certain limitations. General License No. 7 authorizes the operation of accounts in U.S. financial institutions for individuals ordinarily resident in the Crimea region of Ukraine, subject to certain limitations. General License No. 8 authorizes transactions related to the receipt and transmission of telecommunications and mail, subject to certain limitations. On May 22, 2015, OFAC issued General License No. 9, which authorizes the exportation of certain services and software incident to the exchange of Internet-based communications, subject to certain limitations.

DATES: Effective Date: December 30, 2014, for General License No. 5; January 30, 2015 for General License No. 6, General License No. 7, and General License No. 8; and May 22, 2015 for General License No. 9.

FOR FURTHER INFORMATION CONTACT: Assistant Director for Licensing, tel.: 202-622-2480, Assistant Director for Policy, tel.: 202-622-2746, Assistant Director for Regulatory Affairs, tel.: 202-622-4855, Assistant Director for Sanctions Compliance & Evaluation, tel.: 202-622-2490, Office of Foreign Assets Control, or Chief Counsel (Foreign Assets Control), tel.: 202-622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202-622-0077.

Background

Since December 30, 2014, OFAC has issued five general licenses authorizing certain transactions for the Crimea region of Ukraine involving certain activities prohibited by Executive Order 13685 of December 19, 2014. On December 30, 2014, OFAC issued General License No. 5 authorizing transactions and activities prohibited by Executive Order 13685 of December 19, 2014 necessary to wind down operations involving the Crimea region of Ukraine, subject to certain limitations. At the time of its issuance on December 30, 2014, OFAC made General License No. 5 available on the OFAC Web site (www.treasury.gov/ofac).

On January 30, 2015, OFAC issued three general licenses. General License No. 6 authorizes noncommercial, personal remittances to or from the Crimea region of Ukraine or for or on behalf of an individual ordinarily resident in the Crimea region of Ukraine, subject to certain limitations. General License No. 7 authorizes the operation of accounts in U.S. financial institutions for individuals ordinarily resident in the Crimea region of Ukraine, subject to certain limitations. General License No. 8 authorizes transactions related to the receipt and transmission of telecommunications and mail involving the Crimea region of Ukraine, subject to certain limitations. At the time of their issuance on January 30, 2015, OFAC made General License Nos. 6, 7, and 8 available on the OFAC Web site (www.treasury.gov/ofac).

On May 22, 2015, OFAC issued General License No. 9 authorizing the exportation from the United States or by U.S. persons of certain services and software incident to the exchange of Internet-based communications, subject to certain limitations. At the time of its issuance on May 22, 2015, OFAC made General License No. 9 available on the OFAC Web site (www.treasury.gov/ofac). With this notice, OFAC is publishing Ukraine-related General License Nos. 5, 6, 7, 8, and 9 in the Federal Register.

Generak License No. 5

Authorizing Certain Activities Prohibited by Executive Order 13685 of December 19, 2014 Necessary To Wind Down Operations Involving the Crimea Region of Ukraine

(a) Except as provided in paragraph (b) of this general license, all transactions and activities prohibited by Section 1 of Executive Order 13685 of December 19, 2014, “Blocking Property of Certain Persons and Prohibiting Certain Transactions With Respect to the Crimea Region of Ukraine” (the “Crimea E.O.”), that are ordinarily incident and necessary (1) to the winding down or divestiture or transfer to a foreign person of a U.S. person's share of ownership, including an equity interest, in pre-December 20, 2014 investments located in the Crimea region of Ukraine; (2) to the winding down of operations, contracts, or other agreements that were in effect prior to December 20, 2014, involving the exportation, reexportation, sale, or supply of goods, services, or technology to the Crimea region of Ukraine; or (3) to the winding down of operations, contracts, or other agreements that were in effect prior to December 20, 2014, involving the importation of any goods, services, or technology from the Crimea region of Ukraine into the United States, are authorized through 12:01 a.m. eastern daylight time, February 1, 2015.

(b) This general license does not authorize (1) any new exportation, reexportation, sale, or supply of goods, services, or technology from the United States, or by a U.S. person, wherever located, to the Crimea region of Ukraine, or (2) any new importation into the United States of goods, services, or technology from the Crimea region of Ukraine, except as needed to wind down operations, contracts, or other agreements otherwise prohibited by the Crimea E.O. This general license does not authorize any transactions or dealings otherwise prohibited by any other Executive order or any other part of 31 CFR Chapter V, or any transactions or dealings with any specially designated national (SDN) listed pursuant to any Ukraine-related Executive order.

(c) U.S. persons participating in transactions authorized by this general license are required, within 10 business days after the wind-down activities conclude, to file a detailed report, including the parties involved, the type and scope of activities conducted, and the dates of the activities, with the Office of Foreign Assets Control, Licensing Division, U.S. Department of the Treasury, 1500 Pennsylvania Avenue NW., Annex, Washington, DC 20220.

Issued: December 30, 2014.

General License No. 6

Noncommercial, Personal Remittances Authorized

(a)(1) U.S. persons are authorized to send and receive, and U.S. depository institutions, U.S. registered brokers or dealers in securities, and U.S. registered money transmitters are authorized to process transfers of, funds to or from the Crimea region of Ukraine or for or on behalf of an individual ordinarily resident in the Crimea region of Ukraine in cases in which the transfer involves a noncommercial, personal remittance, provided the transfer is not by, to, or through any person whose property and interests in property are blocked pursuant to Executive Order 13660 of March 6, 2014, Executive Order 13661 of March 17, 2014, Executive Order 13662 of March 20, 2014, or Executive Order 13685 of December 19, 2014 (collectively, the “Orders”).

(2) Noncommercial, personal remittances do not include charitable donations of funds to or for the benefit of an entity or funds transfers for use in supporting or operating a business, including a family-owned business.

(b) The transferring institutions identified in paragraph (a) of this general license may rely on the originator of a funds transfer with regard to compliance with paragraph (a), provided that the transferring institution does not know or have reason to know that the funds transfer is not in compliance with paragraph (a).

(c) An individual who is a U.S. person is authorized to carry funds as a noncommercial, personal remittance, as described in paragraph (a) of this general license, to an individual in the Crimea region of Ukraine or to an individual ordinarily resident in the Crimea region of Ukraine, other than an individual whose property and interests in property are blocked pursuant to the Orders, provided that the individual who is a U.S. person is carrying the funds on his or her behalf, but not on behalf of another person.

Issued: January 30, 2015.

General License No. 7

Operation of Accounts Authorized

The operation of an account in a U.S. financial institution for an individual ordinarily resident in the Crimea region of Ukraine other than an individual whose property and interests in property are blocked pursuant to Executive Order 13660 of March 6, 2014, Executive Order 13661 of March 17, 2014, Executive Order 13662 of March 20, 2014, or Executive Order 13685 of December 19, 2014 (collectively, the “Orders”), is authorized, provided that transactions processed through the account:

(a) Are of a personal nature and not for use in supporting or operating a business;

(b) Do not involve transfers directly or indirectly to the Crimea region of Ukraine or for the benefit of individuals ordinarily resident in the Crimea region of Ukraine unless authorized by General License No. 6 (“Noncommercial, Personal Remittances Authorized”); and

(c) Are not otherwise prohibited by the Orders.

Issued: January 30, 2015.

General License No. 8

Transactions Related to Telecommunications and Mail Authorized

(a)(1) Except as provided in paragraph (a)(2) of this general license, all transactions with respect to the receipt and transmission of telecommunications involving the Crimea region of Ukraine are authorized, provided that no payment pursuant to this general license may involve any transaction with a person whose property and interests in property are blocked pursuant to Executive Order 13660 of March 6, 2014, Executive Order 13661 of March 17, 2014, Executive Order 13662 of March 20, 2014, or Executive Order 13685 of December 19, 2014 (collectively, the “Orders”).

(2) This general license does not authorize:

(i) The provision, sale, or lease of telecommunications equipment or technology; or

(ii) The provision, sale, or lease of capacity on telecommunications transmission facilities (such as satellite or terrestrial network activity).

(b) All transactions of common carriers incident to the receipt or transmission of mail and packages between the United States and the Crimea region of Ukraine are authorized, provided that the importation or exportation of such mail and packages is exempt from the prohibitions of Executive Order 13685 of December 19, 2014, or is otherwise authorized pursuant to 31 CFR part 589.

Issued: January 30, 2015.

General License No. 9

Exportation of Certain Services and Software Incident to Internet-Based Communications Authorized

(a) Except as provided in paragraph (d) of this general license, the exportation or reexportation, directly or indirectly, from the United States or by U.S. persons, wherever located, to persons in the Crimea region of Ukraine of services incident to the exchange of personal communications over the Internet, such as instant messaging, chat and email, social networking, sharing of photos and movies, web browsing, and blogging, is authorized, provided that such services are widely available to the public at no cost to the user.

(b) Except as provided in paragraph (d) of this general license, the exportation or reexportation, directly or indirectly, from the United States or by U.S. persons, wherever located, to persons in the Crimea region of Ukraine of software necessary to enable the services described in paragraph (a) of this general license is authorized, provided that such software is designated EAR99 under the Export Administration Regulations, 15 CFR parts 730 through 774 (the “EAR”), or is classified by the U.S. Department of Commerce (Commerce) as mass market software under export control classification number (ECCN) 5D992 of the EAR, and provided further that such software is widely available to the public at no cost to the user.

(c) Except as provided in paragraph (d) of this general license, the exportation or reexportation, directly or indirectly, from the United States or by U.S. persons, wherever located, to persons in the Crimea region of Ukraine of software that is not subject to the EAR because it is of foreign origin and is located outside the United States that is necessary to enable the services described in paragraph (a) of this general license is authorized, provided that such software would be designated EAR99 if it were located in the United States or would meet the criteria for classification under ECCN 5D992 of the EAR if it were subject to the EAR, and provided further that such software is widely available to the public at no cost to the user.

(d) This general license does not authorize:

(1) The exportation or reexportation, directly or indirectly, of services or software with knowledge or reason to know that such services or software are intended for any person whose property and interests in property are blocked pursuant to Executive Order 13660 of March 6, 2014, Executive Order 13661 of March 17, 2014, Executive Order 13662 of March 20, 2014, or Executive Order 13685 of December 19, 2014;

(2) The exportation or reexportation, directly or indirectly, of any goods or technology listed on the Commerce Control List in the EAR, 15 CFR part 774, supplement No. 1 (CCL), except for software necessary to enable the services described in paragraph (a) of this general license that is classified by Commerce as mass market software under ECCN 5D992 of the EAR;

(3) The exportation or reexportation, directly or indirectly, of commercial-grade Internet connectivity services or telecommunications transmission facilities (such as dedicated satellite links or dedicated lines that include quality of service guarantees); or

(4) The exportation or reexportation, directly or indirectly, of web-hosting services that are for commercial endeavors or of domain name registration services.

(e) Specific licenses may be issued on a case-by-case basis for the exportation or reexportation of services or software incident to the exchange of personal communications over the Internet not specified in paragraphs (a), (b), or (c) of this general license, and for the exportation or reexportation of hardware incident to the exchange of personal communications over the Internet.

Note to General License 9: Nothing in this general license or in any license issued pursuant to paragraph (e) of this general license relieves the exporter from compliance with the export license application requirements of another Federal agency.

Issued: May 22, 2015.

Dated: July 23, 2015.
John E. Smith,
Acting Director, Office of Foreign Assets Control.

[FR Doc. 2015-18520 Filed 7-28-15; 8:45 am]

BILLING CODE 4810-AL-P